DEPARTMENT OF COMMERCE

National Oceanic and Atmospheric Administration

[I.D. 081400C]

North Pacific Fishery Management Council; Public Meetings

AGENCY: National Marine Fisheries Service (NMFS), National Oceanic and Atmospheric Administration (NOAA), Commerce.

ACTION: Notice of public meetings.

SUMMARY: The North Pacific Fishery Management Council's Gulf of Alaska and Bering Sea/Aleutian Islands groundfish plan teams will meet in Seattle.

DATES: The meetings will be held on September 13-15, 2000. The meetings will begin at 9 a.m. on Wednesday, September 13, and continue through Friday September 15.

ADDRESSES: The meetings will be held at the Alaska Fisheries Science Center, 7600 Sand Point Way NE., Bldg. 4, Room 2079, Seattle, WA.

Council address: North Pacific Fishery Management Council, 605 W. 4th Ave., Suite 306, Anchorage, AK 99501 2252.

FOR FURTHER INFORMATION CONTACT: Jane DiCosimo, North Pacific Fishery Management Council, 907-271-2809.

SUPPLEMENTARY INFORMATION: The plan teams will review available stock assessments and catch statistics for Gulf of Alaska and Bering Sea/Aleutian Islands groundfish fisheries and prepare preliminary stock assessment documents, including economic and ecosystem considerations, for the 2001 groundfish fisheries.

Although non-emergency issues may come before this Council for discussion, in accordance with the Magnuson-Stevens Fishery Conservation and Management Act, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Helen Allen, 907-271-2809, at least 5 working days prior to the meeting date.

Dated: August 15, 2000.
Richard W. Surdi,
Acting Director, Office of Sustainable Fisheries, National Marine Fisheries Service.

[FR Doc. 00-21224 Filed 8-18-00; 8:45 am]

BILLING CODE 3510-22-F